DEPARTMENT OF JUSTICE

Antitrust Division

Notice Pursuant to the National Cooperative Research and Production Act of 1993—American Institute of Timber Construction

Notice is hereby given that, on September 23, 2004, pursuant to section 6(a) of the National Cooperative Research and Production Act off 1993, 15 U.S.C. 4301 et seq. (“Act”), American Institute of Timber Construction (“AITC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Institute of Timber Construction, Centennial, CO. The nature and scope of AITC's standards development activities are: AITC is the secretariat of a single standard ANSI/AITC A190.1 and maintains the revision of this standard using the “Procedures for Development of American Standards Institute of Timber Construction Consensus Standards” approved by the American National Standards Institute on June 6, 2003. The said standard describes the minimum requirements for the production/manufacture of structural glued laminated as well as the quality control system which must be employed by the manufacturer.

Dorothy B. Fountain,
Deputy Director of Operations, Antitrust Division.

[FR Doc. 05-1979 Filed 2-1-05; 8:45 am]

BILLING CODE 4410-11-M